DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Atlantic Highly Migratory Species Voluntary Release Reports.

OMB Control Number: None.

Form Number(s): NA.

Type of Request: Regular submission (request for approval of a new information collection).

Number of Respondents: 9,246.

Average Hours per Response: 5 minutes.

Burden Hours: 771.

Needs and Uses: This request is for approval of a new information collection.

Under the Magnuson-Stevens Fishery Conservation and Management Act (MSFMCA, 16 U.S.C. 1801 et seq.) the National Marine Fisheries Service (NMFS) is to ensure that conservation and management measures promote, to the extent practicable, implementation of scientific research programs that include the tagging and releasing of Atlantic highly migratory species (HMS). The proposed information collection would allow the public to submit volunteered geographic information relating to HMS releases in order to populate an interactive Web site mapping tool. This Web page could attract visitors who are interested in Atlantic HMS and would contain information and links to promote HMS tagging programs that the general public could support or in which they could become involved. All submissions would be voluntary. Information would be used to raise awareness for releasing Atlantic HMS and HMS tagging programs, and would not be used as representative results.

Affected Public: Individuals or households; business or other for-profit organizations; not-for-profit institutions; state, local or tribal government.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: January 20, 2011.
Gwellnar Banks,
Management Analyst, Office of the Chief Information Officer.

[FR Doc. 2011-1494 Filed 1-24-11; 8:45 am]

BILLING CODE 3510-22-P